DEPARTMENT OF THE INTERIOR

National Park Service

Environmental Statements; Notice of Intent: Elkmont Historic District, TN

AGENCY: National Park Service, Interior.

ACTION: Notice of Intent to Prepare a General Management Plan Amendment/Draft Environmental Impact Statement for the Elkmont Historic District in Great Smoky Mountains National Park.

SUMMARY: This notice is being published in accordance with 40 CFR 1506.6. Pursuant to section 102(2)(c) of the National Environmental Policy Act of 1969, the National Park Service announces the preparation of a General Management Plan Amendment/Environmental Impact Statement (GMPA/EIS) to analyze alternatives for resolving issues related to the Elkmont Historic District. The purpose of the planning initiative for which the EIS is being written is to reevaluate the current management strategy for the Elkmont Historic District as articulated in the Park's General Management Plan (GMP), written in 1982. The public scoping process for the EIS has been initiated with issuance of this notice. The purpose of the scoping process is to elicit public comment regarding the full spectrum of public issues and concerns, including a suitable range of alternatives, the nature and extent of potential environmental impacts and appropriate mitigation strategies which should be addressed in the GMPA/EIS process.

DATES: Beginning on March 8, 2004, public information meetings will be conducted in the vicinity of Great Smoky Mountains National Park. The location, date, and time of the meetings and deadlines for written comments will be announced via local and regional media as follows: The Knoxville News-Sentinel, Knoxville, Tennessee; The Mountain Press, Sevierville, Tennessee; The Daily Times, Maryville, Tennessee; The Smoky Mountain Times, Bryson City, North Carolina; The Mountaineer, Waynesville, North Carolina; Asheville Citizen Times, Asheville, North Carolina and other major newspapers in Raleigh, North Carolina, Charlotte, North Carolina, Atlanta, Georgia, and Nashville, Tennessee. Announcements will also be placed on the following Web sites: http://www.nps.gov/grsm and http://www.elkmont-gmpa-ea.com/. All interested individuals, organizations and agencies are invited to attend these meetings to comment orally and/or provide written comments or suggestions during the scoping period.

ADDRESSES: Any comments or requests for information should be addressed to Elkmont Historic District EIS, Attn: Superintendent, Great Smoky Mountains National Park, 107 Park Headquarters Road, Gatlinburg, Tennessee 37738.

FOR FURTHER INFORMATION CONTACT: Superintendent, Great Smoky Mountains National Park, 107 Park Headquarters Road, Gatlinburg, TN 37738. Telephone: (865) 436-1207 or Fax: (865) 436-1220.

SUPPLEMENTARY INFORMATION: The public is advised that individual names and addresses may be included as part of the public record. Names and addresses will be available for public review during regular business hours. There may be circumstances in which a person prefers to have their name and other information withheld from the public record. Any person wishing to do this must state this prominently at the beginning of any correspondence or comment, and the request will be honored to the extent allowable by law. All submissions from organizations or businesses, and from individuals identifying themselves as representatives or officials of organizations or businesses, will be placed on the public record and will be made available for public inspection in their entirety.

There are 74 cottages, outbuildings and a hotel in the Elkmont Historic District (District) of Great Smoky Mountains National Park, which until December 1992, were under the lease of the Elkmont Preservation Committee (EPC). The District is located in Sevier County, Tennessee, within the Park and is approximately 7 miles west on Little River Road, from the Sugarlands Visitor Center. It is critical that Great Smoky Mountains National Park continues the planning process for the Elkmont Historic District. With the exception of two buildings vacated in late 2001, all of the structures in the District have been vacant since 1992. The structures have deteriorated and the Park has been forced to expend emergency funding to stabilize the structures.

Under guidelines described in the National Historic Preservation Act (NHPA), the Park has been in consultation with the Tennessee Historical Commission (State Historic Preservation Office—SHPO) and the Advisory Council on Historic Preservation, as well as other longstanding stakeholders as Consulting Parties. Many of the issues regarding the eventual management of the district are yet unresolved. Based upon a decision in its 1982 GMP, the Park had planned to remove all of the structures once their leases expired and then allow the area to revert to a natural condition. One of the natural communities found at Elkmont was identified as a “montane alluvial forest.” This particular natural community is ranked as “rare and highly threatened.” In 1994, the Elkmont community was listed on the National Register of Historic Places as an historic district, so any action affecting it would require consultation with the SHPO. Consequently, discussion of any action upholding or diverging from the direction provided by the current GMP has generated controversy among the various stakeholders and any decision by the Park could further enflame deep passions among these stakeholders. Current Elkmont planning effectively combines NEPA and NHPA guidelines as a joint process in an effort to streamline the overall planning process. As part of the 106 process under the NHPA defined in 36 CFR, part 800.8, the Park formed a Consulting Parties group that represents various public interest groups. This public group was formed to consult and advise the Park on issues concerning the eventual management of the District. Public expectation and time sensitive concerns will ensure the planning process is conducted in a timely manner.

As part of the evaluation process, a range of reasonable management actions will be identified/analyzed in context with agency mission and the public interest. The planning effort will result in a defined management prescription for Elkmont. This undertaking is in response to new information and additional resource knowledge unknown at the time the GMP was approved in 1982. National Park Service planning is intended to bring logic, natural and cultural resource analysis, public involvement, and accountability into its decision-making. Public participation will ensure the NPS fully understands and considers the public's interest as part of the national heritage, cultural traditions, and community surroundings.

Recognizing that the National Environmental Policy Act (NEPA) requires the consideration of a reasonable range of options that will address the project purpose and need, the EIS will include a full range of alternatives for detailed study. The alternatives will consist of a no-action alternative, as well as a variety of action alternatives. These alternatives will be developed, screened and subjected to detailed analysis in the draft GMPA/EIS based on their ability to address the purpose and need, while attempting to avoid known and sensitive resources.

Prior to deciding to enter into the EIS process, the NPS had been preparing an environmental assessment (EA) for the Elkmont Historic District. Through this EA process, the NPS held numerous public meetings and workshops to ascertain public concerns and suggested uses for the District. This extensive public input resulted in a high level of controversy over the use of the resources. Due to this high level of controversy, a sense of urgency regarding the condition of the Elkmont structures, and to be better positioned for decision making, the NPS elevated the process to a GMPA/EIS level.

All past public input will be incorporated into the GMPA/EIS process and will continue to serve as the basis on which detailed alternatives are formulated. It is anticipated that the next set of public information meetings will be held on March 8 and 9, 2004, as part of the NEPA process to facilitate local, state, and federal agency involvement and to inform and to solicit input from the public regarding the range of proposed detailed alternatives being carried forward into the GMPA/EIS. Private organizations, citizens, and interest groups will have an opportunity to provide input into the development of the GMPA/EIS and identify issues that should be addressed at the public information meetings.

A comprehensive public participation plan will be undertaken to involve the public throughout the project development process. This public involvement plan includes the initial set of formal scoping public meetings as well as other formats for input at key stages throughout the process, including public review of the draft GMPA/EIS. The plan will also include dissemination of current information on the project Web site, with newsletters, and meetings with the Consulting Parties.

The draft GMPA/EIS will be available for public and agency review and comment prior to the second set of public meetings/hearings. Its availability will be announced by Federal Register notice, regional and local media, Web site, and direct mailings to all those on the formal project mailing list developed and maintained throughout the NEPA/Public Involvement process. At this time, the draft GMPA/EIS is anticipated to be available for public review in late 2004.

To ensure that the full range of issues related to this proposed action are identified and taken into account, comments and suggestions are invited from all interested parties. Comments and questions concerning this notice of proposed action, and when the draft GMPA/EIS is available, should be directed to the NPS at the address provided under the caption FOR FURTHER INFROMATION CONTACT.

Dated: January 15, 2004.
Patricia A. Hooks,
Acting Regional Director, Southeast Region.

[FR Doc. 04-7135 Filed 3-30-04; 8:45 am]

BILLING CODE 4310-70-P